NUCLEAR REGULATORY COMMISSION

[NRC-2011-0031]

Office of New Reactors; Interim Staff Guidance on Impacts of Construction of New Nuclear Power Plants on Operating Units at Multi-Unit Sites

AGENCY: Nuclear Regulatory Commission (NRC).

ACTION: Solicitation of public comment.

SUMMARY: The NRC staff is soliciting public comment on its proposed Interim Staff Guidance (ISG) COL-ISG-022 entitled “Impacts of Construction of New Nuclear Power Plants on Operating Units at Multi-Unit Sites” (Agencywide Documents Access and Management System (ADAMS) Accession No. ML093440252). Through this ISG, the NRC staff provides guidance for assessing combined license (COL) applicant compliance with the requirements of Title 10 of the Code of Federal Regulations, Section 52.79(a)(31) (10 CFR 52.79(a)(31)). This regulation requires applicants for a COL intending to construct and operate new nuclear power plants (NPPs) on multi-unit sites to provide an evaluation of the potential hazards to structures, systems, and components (SSCs) important to safety for the operating units resulting from construction activities. The NRC staff issues COL-ISGs to facilitate timely implementation of current staff guidance and to facilitate activities associated with review of applications for COLs by the Office of New Reactors (NRO). This ISG supplements the guidance contained in Regulatory Guide (RG) 1.206, Revision 0, “Combined License Applications for Nuclear Power Plants (LWR Edition).” In addition, this ISG supplements the guidance provided for NRC staff review of COL applications contained in NUREG-0800, “Standard Review Plan for the Review of Safety Analysis Reports for Nuclear Power Plants (SRP),” Chapter 1.0, dated November 2007. The NRC staff intends to incorporate the final approved COL-ISG-022 into the next revision of RG 1.206 and NUREG-0800 SRP Chapter 1.0.

DATES: Comments must be filed no later than 30 days from the date of publication of this notice in the Federal Register. Comments received after this date will be considered, if it is practical to do so, but the Commission is able to ensure consideration only for comments received on or before this date.

ADDRESSES: You may submit comments by any one of the following methods. Please include Docket ID: NRC-2011-0031 in the subject line of your comments. Comments submitted in writing or in electronic form will be posted on the NRC Web site and on the Federal rulemaking Web site at http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID: NRC-2011-0031. Address questions about NRC dockets to Carol Gallagher at 301-492-3668; e-mail at Carol.Gallagher@nrc.gov.

Mail comments to: Cindy Bladey, Chief, Rules, Announcements and Directives Branch (RADB), Division of Administrative Services, Office of Administration, Mail Stop: TWB-05-01M, U.S. Nuclear Regulatory Commission, Washington, DC 20555-0001, or by fax to RADB at 301-492-3446.

The NRC ADAMS provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff by telephone at 1-800-397-4209, 301-415-4737, or by e-mail at pdr.resource@nrc.gov.

FOR FURTHER INFORMATION CONTACT: Mr. William F. Burton, Chief, Rulemaking and Guidance Development Branch, Division of New Reactor Licensing, Office of New Reactors, U.S. Nuclear Regulatory Commission, Washington, DC 20555-0001; telephone at 301-415-6332 or e-mail at William.Burton@nrc.gov.

SUPPLEMENTARY INFORMATION: The agency posts its issued staff guidance in the agency external web page (http://www.nrc.gov/reading-rm/doc-collections/isg/).

The NRC staff is issuing this notice to solicit public comments on the proposed COL-ISG-022. After the NRC staff considers any public comments, it will make a determination regarding the proposed COL-ISG-022.

Dated at Rockville, Maryland, this 26th day of January 2011.
For the Nuclear Regulatory Commission.
William F. Burton,
Chief, Rulemaking and Guidance Development Branch, Division of New Reactor Licensing, Office of New Reactors.

[FR Doc. 2011-3223 Filed 2-11-11; 8:45 am]

BILLING CODE 7590-01-P